SECURITIES AND EXCHANGE COMMISSION

[Release No. 34-56382; File No. SR-Amex-2007-80]

Self-Regulatory Organizations; American Stock Exchange LLC; Notice of Filing and Immediate Effectiveness of Proposed Rule Change Relating to Member Floor Fees

September 11, 2007.

Pursuant to section 19(b)(1) ¹ of the Securities Exchange Act of 1934 (the “Act”), and Rule 19b-4 ² thereunder, notice is hereby given that on August 29, 2007, the American Stock Exchange LLC (“Amex” or “Exchange”) filed with the Securities and Exchange Commission (“Commission”) a proposed rule change as described in Items I, II, and III below, which Items have been prepared substantially by the Exchange. Amex has designated the proposed rule change as establishing or changing a due, fee, or other charge applicable only to members, pursuant to section 19(b)(3)(A)(ii) of the Act,³ and Rule 19b-4(f)(2) ⁴ thereunder, which renders the proposal effective upon filing with the Commission. The Commission is publishing this notice to solicit comments on the proposed rule change from interested persons.

¹ 15 U.S.C. 78s(b)(1).

² 17 CFR 240.19b-4.

³ 15 U.S.C. 78s(b)(3)(A)(ii).

⁴ 17 CFR 240.19b-4(f)(2).

I. Self-Regulatory Organization's Statement of the Terms of Substance of the Proposed Rule Change

The Exchange proposes to revise the Amex Floor Fee Schedule (the “Fee Schedule”).

The text of the proposed rule change is available on Amex's Web site at http://www.amex.com, at Amex's Office of the Secretary, and at the Commission's Public Reference Room.

II. Self-Regulatory Organization's Statement of the Purpose of, and Statutory Basis for, the Proposed Rule Change

In its filing with the Commission, Amex included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and the Statutory Basis for, the Proposed Rule Change

1. Purpose

The purpose of this proposal is to adopt various floor fees for services provided by the Exchange to members and member organizations in connection with the installation and management of member technology and computer networks. These services, among other things, include floor facilities, network connectivity, power and telecommunications. The Exchange submits that these changes will be implemented on September 1, 2007.

The Fee Schedule sets forth the various floor fees that the Exchange proposes to adopt on either a one-time, annual or monthly basis as appropriate. The proposal seeks to add three (3) new categories to the Fee Schedule to include (i) Colocation Space, (ii) Amex Port Charges and (iii) Power. In addition, the proposal adds various fees in the Fee Schedule under sections entitled “Market Data Fees/Terminals,” “Equipment” and “Telecommunications.”

The section entitled “Colocation Space” relates to the Exchange facilities space that is made available to members and member firms for the purpose of managing their own network and computing hardware at the Amex. The proposed fees provide that the members and member firms desiring full cabinet ⁵ space be assessed a one-time fee of $2,125.00 with an ongoing annual fee of $14,400 ($1,200/month). Alternatively, for a 1/8 cabinet increment, members will be charged a one-time fee of $265.00 with an annual fee of $1,800.00 ($150 per month).

⁵ “Full cabinet” is defined as one (1) 44 rack unit (RU) powered telecommunications cabinet or rack with 33 RU usable space. Standard power is one (1) 20 amperes (amps) 120 volts primary power circuit and one (1) 20 amps 120 volts redundant power circuit per cabinet or rack with 16 amps available per circuit.

The section entitled “Amex Port Charges” are proposed charges for network connectivity. These proposed one-time fees range from $100 to $780 with ongoing annual fees ranging from $792 ($66/month) to $7,020 ($585/month). The proposed connectivity charge will depend on the type of network connectivity.

The section entitled “Power” are proposed charges for electrical power that members and member firms may use to supplement the power included in the standard Colocation Space. Proposed charges range from $1,200 a year ($100/month) to $21,912.00 a year ($1,826/month). Differences in the proposed fees depend on whether the electrical power is primary or redundant and the specific voltage and amp requirements.

The proposal also adds various charges for market data in the current section entitled “Market Data Fees/Terminals.” These proposed fees range from $113.76 a year ($9.48/month) to $3,120 a year ($260/month). The proposed charges are for fees in connection with various market data services such as Dow Jones and Bloomberg.

With respect to the proposed fee additions to the section entitled “Equipment,” members and member firms would be assessed for the use of “Podia” ⁶ and “MCTV” ⁷ in the amount of $1,044 per year ($87/month) and $479.88 per year ($39.99/month), respectively. As provided for in the proposed Floor Fee Schedule, these charges would defray the Exchange's cost of providing this equipment to members. Similarly, the proposed “Internet Service Fee” of $840.00 per year ($70/month) in the section entitled “Telecommunications” will defray the cost of providing this service to those members and member firms that choose to access the internet through the Exchange.

⁶ “Podia” refers to an increment of space used by specialists at a trading post.

⁷ “MCTV” is cable television.

Lastly, the current “Floor Wire Privilege Fee” would be eliminated under the proposal because the proposed charges in connection with “Amex Port Charges” apply to network connectivity so that the “Floor Wire Privilege Fee” is not necessary.

2. Statutory Basis

The proposed fee change is consistent with section 6(b)(4) of the Act ⁸ regarding the equitable allocation of reasonable dues, fees and other charges among exchange members and other persons using exchange facilities. The Exchange believes that the proposal is an equitable allocation of reasonable fees/charges among floor members because the fees/charges relating to floor facilities, network connectivity, power and telecommunications are assessed only against those floor members who choose to employ the Exchange's offering of such products/services. In addition, the Exchange submits that the proposed fees/charges are reasonable in connection with the Exchange's offered products/services, and are largely expected to cover the cost to the Exchange of providing such products/services. Accordingly, the Exchange seeks, through this proposal, to better manage its costs for supplying member technology and computer networks.

⁸ 15 U.S.C. 78f(b)(4).

B. Self-Regulatory Organization's Statement on Burden on Competition

The Exchange believes that the proposed rule change does not impose any burden on competition that is not necessary or appropriate in furtherance of the purposes of the Act.

C. Self-Regulatory Organization's Statement on Comments on the Proposed Rule Change Received From Members, Participants or Others

No written comments were solicited or received with respect to the proposed rule change.

III. Date of Effectiveness of the Proposed Rule Change and Timing for Commission Action

The foregoing proposed rule change has become effective pursuant to section 19(b)(3)(A)(ii) of the Act,⁹ and Rule 19b-4(f)(2) ¹⁰ thereunder, because it establishes or changes a due, fee, or other charge imposed by the Exchange, applicable only to members. At any time within 60 days of the filing of the proposed rule change, the Commission may summarily abrogate such rule change if it appears to the Commission that such action is necessary or appropriate in the public interest, for the protection of investors, or otherwise in furtherance of the purposes of the Act.

⁹ 15 U.S.C. 78s(b)(3)(A)(ii).

¹⁰ 17 CFR 240.19b-4(f)(2).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-Amex-2007-80 on the subject line.

Paper Comments

• Send paper comments in triplicate to Nancy M. Morris, Secretary, Securities and Exchange Commission, 100 F Street, NE., Washington, DC 20549-1090.

All submissions should refer to File Number SR-Amex-2007-80. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F. Street, NE., Washington, DC 20549, on official business days between the hours of 10 a.m. and 3 p.m. Copies of such filing also will be available for inspection and copying at the principal office of Amex. All comments received will be posted without change; the Commission does not edit personal identifying information from submissions. You should submit only information that you wish to make available publicly. All submissions should refer to File Number SR-Amex-2007-80 and should be submitted on or before October 9, 2007.

For the Commission, by the Division of Market Regulation, pursuant to delegated authority.¹¹
¹¹ 17 CFR 200.30-3(a)(12).
Florence E. Harmon,
Deputy Secretary.

[FR Doc. E7-18269 Filed 9-17-07; 8:45 am]

BILLING CODE 8010-01-P